DEPARTMENT OF COMMERCE

National Oceanic and Atmospheric Administration

RIN 0648-XN64

Endangered Species; File No. 10027

AGENCY: National Marine Fisheries Service (NMFS), National Oceanic and Atmospheric Administration (NOAA), Commerce.

ACTION: Notice; receipt of application for permit modification

SUMMARY: Notice is hereby given that the Center for Biodiversity and Conservation, American Museum of Natural History, Central Park West at 79th Street, New York, New York 10024, has requested a modification to scientific research Permit No. 10027.

DATES: Written, telefaxed, or e-mail comments must be received on or before May 18, 2009.

ADDRESSES: The modification request and related documents are available for review upon written request or by appointment in the following offices:

Permits, Conservation and Education Division, Office of Protected Resources, NMFS, 1315 East-West Highway, Room 13705, Silver Spring, MD 20910; phone (301)713-2289; fax (301)427-2521; and

Pacific Islands Region, NMFS, 1601 Kapiolani Blvd., Rm 1110, Honolulu, HI 96814-4700; phone (808)944-2200; fax (808)973-2941.

Written comments or requests for a public hearing on this request should be submitted to the Chief, Permits, Conservation and Education Division, F/PR1, Office of Protected Resources, NMFS, 1315 East-West Highway, Room 13705, Silver Spring, MD 20910. Those individuals requesting a hearing should set forth the specific reasons why a hearing on this particular modification request would be appropriate.

Comments may also be submitted by facsimile at (301)427-2521, provided the facsimile is confirmed by hard copy submitted by mail and postmarked no later than the closing date of the comment period.

Comments may also be submitted by e-mail. The mailbox address for providing e-mail comments is NMFS.Pr1Comments@noaa.gov. Include in the subject line of the e-mail comment the following document identifier: File No. 10027.

FOR FURTHER INFORMATION CONTACT: Patrick Opay or Amy Hapeman, (301)713-2289.

SUPPLEMENTARY INFORMATION: The subject modification to Permit No. 10027 is requested under the authority of the Endangered Species Act of 1973, as amended (16 U.S.C. 1531 et seq.) and the regulations governing the taking, importing, and exporting of endangered and threatened species (50 CFR 222-226).

Permit No. 10027, issued on July 30, 2008 (73 FR 44224), authorizes the permit holder to study the population biology and connectivity of green (Chelonia mydas) and hawksbill (Eretmochelys imbricata) sea turtles focusing on distribution and abundance, ecology, health, and threats to sea turtles at the Palmyra Atoll in the Pacific Ocean. The permit holder requests a modification to their existing permit to increase the number of green sea turtles they may take each year. Researchers propose to annually satellite tag up to 16 animals; annually sonic transmitter tag up to 30 animals; annually blood and tissue sample up to 100 animals; annually flipper and PIT tag up to 100 animals; and annually gastric lavage up to 50 animals. The modification would allow them to more quickly accumulate appropriate sample sizes so that information from the study can help inform conservation and management of this species in the Pacific. The amended permit would expire July 31, 2013.

Dated: April 10, 2009.
Tammy C. Adams,
Acting Chief, Permits, Conservation and Education Division, Office of Protected Resources, National Marine Fisheries Service.

[FR Doc. E9-8756 Filed 4-15-09; 8:45 am]

BILLING CODE 3510-22-S